NUCLEAR REGULATORY COMMISSION

Appointments to Performance Review Boards for Senior Executive Service; Correction

AGENCY: U.S. Nuclear Regulatory Commission.

ACTION: Appointments to Performance Review Boards for Senior Executive Service; Correction.

SUMMARY: This document corrects a notice published on May 17, 2005 (70 FR 28324), that announces the appointments to the NRC Performance Review Boards. This notice is necessary to correct an omission in the listing.

On page 28324, in the third column, insert “Annette Vietti-Cook, Secretary of the Commission” after the listing for “Jack R. Strosnider, Director, Office of Nuclear Material Safety and Safeguards.”

Dated at Rockville, Maryland, this 17th day of May, 2005.
For the Nuclear Regulatory Commission.
Carolyn J. Swanson,
Secretary, Executive Resources Board.

[FR Doc. E5-2584 Filed 5-20-05; 8:45 am]

BILLING CODE 7590-01-P